DEPARTMENT OF COMMERCE

Economics and Statistics Administration

Commerce Data Advisory Council

AGENCY: Economic and Statistics Administration, Department of Commerce.

ACTION: Notice of Public Meeting.

SUMMARY: The Economic and Statistics Administration (ESA) is giving notice of a meeting of Commerce Data Advisory Council (CDAC). The CDAC will address areas such as data management practices; common, open data standards; policy issues related to privacy, latency, and consistency; effective models for public-private partnership; external uses of Commerce data; and, methods to build new feedback loops between the Department and data users. The CDAC will meet in a plenary session on July 30, 2015. Last-minute changes to the schedule are possible, which could prevent giving advance public notice of schedule adjustments.

DATES: July 30, 2015. The meeting will begin at approximately at 9:00 a.m. and end at approximately 5:00 p.m.

ADDRESSES: The meeting will be held at Intel Corporation, Robert Noyce Building—Front Desk Lobby, 2200 Mission College Blvd., Santa Clara, CA 95054.

FOR FURTHER INFORMATION CONTACT: Burton Reist, BReist@doc.gov, Director of External Communication and DFO, CDAC, Department of Commerce, Economics and Statistics Administration, 1401 Constitution Ave. NW., Washington, DC 20230, telephone (202) 482-3331.

SUPPLEMENTARY INFORMATION: The CDAC comprises as many as 20 members. The Committee provides an organized and continuing channel of communication between recognized experts in the data industry (collection, compilation, analysis, dissemination and privacy protection) and the Department of Commerce. The CDAC provides advice and recommendations, to include process and infrastructure improvements, to the Secretary, DOC and the DOC data-bureau leadership on ways to make Commerce data easier to find, access, use, combine and disseminate. The aim of this advice shall be to maximize the value of Commerce data to all users including governments, businesses, communities, academia, and individuals.

The Committee is established in accordance with the Federal Advisory Committee Act (Title 5, United States Code, Appendix 2, Section 10(a)(b)).

All meetings are open to the public. A brief period will be set aside at the meeting for public comment on July 30, 2015. However, individuals with extensive questions or statements must submit them in writing to: DataAdvisoryCouncil@doc.gov (subject line “July 2015 CDAC Meeting Public Comment”), or by letter submission to the Director of External Communication and DFO, CDAC, Department of Commerce, Economics and Statistics Administration, 1401 Constitution Ave. NW., Washington, DC 20230. Such submissions will be included in the record for the meeting if received by Wednesday, July 22, 2015.

The meeting is physically accessible to persons with disabilities. Requests for sign language interpretation or other auxiliary aids should be directed to the Director of External Communication as soon as possible, preferably two weeks prior to the meeting. If you plan to attend the meeting, please register by Monday, July 27, 2015. You may access the online registration from the following link: https://www.eventbrite.com/e/department-of-commerce-data-advisory-council-cdac-july-2015-meeting-tickets-17278450310.

Seating is available to the public on a first-come, first-served basis.

Dated: June 11, 2015.
Austin Durrer,
Chief of Staff for Under Secretary for Economic Affairs, Economics and Statistics Administration.

[FR Doc. 2015-14796 Filed 6-15-15; 8:45 am]

BILLING CODE P